DEPARTMENT OF LABOR

Employment and Training Administration

[TA-W-52,386]

Fishing Vessel (F/V) Family Pride, Kodiak, AK; Dismissal of Application for Reconsideration

Pursuant to 29 CFR 90.18(c) an application for administrative reconsideration was filed with the Director of the Division of Trade Adjustment Assistance for workers at Fishing Vessel (F/V) Family Pride, Kodiak, Alaska. The application contained no new substantial information which would bear importantly on the Department's determination. Therefore, dismissal of the application was issued.

TA-W-52,386; Fishing Vessel (F/V) Family Pride, Kodiak, Alaska (October 23, 2003).

Signed at Washington, DC, this 31st day of October, 2003.
Timothy Sullivan,
Director, Division of Trade Adjustment Assistance.

[FR Doc. 03-29128 Filed 11-20-03; 8:45 am]

BILLING CODE 4510-30-P